SMALL BUSINESS ADMINISTRATION

[Declaration of Disaster #3605]

State of California

Los Angeles County and the contiguous counties of Kern, Orange, San Bernardino, and Ventura in the State of California constitute a disaster area as a result of a fire at the Mountain View Venture Apartments on July 18, 2004. Applications for loans for physical damage as a result of this disaster may be filed until the close of business on October 5, 2004, and for economic injury until the close of business on May 5, 2005, at the address listed below or other locally announced locations: U.S. Small Business Administration, Disaster Area 4 Office, P.O. Box 419004, Sacramento, CA 95841-9004.

The interest rates are:

| Percent
For Physical Damage:
Homeowners with credit available elsewhere | 5.750
Homeowners without credit available elsewhere | 2.875
Businesses with credit available elsewhere | 5.500
Businesses and non-profit organizations without credit available elsewhere | 2.750
Others (including non-profit organizations) with credit available elsewhere | 4.875
For Economic Injury:
Businesses and small agricultural cooperatives without credit available elsewhere | 2.750

The number assigned to this disaster for physical damage is 360505 and for economic damage is 9ZN600.

(Catalog of Federal Domestic Assistance Program Nos. 59002 and 59008.)

Dated: August 5, 2004.
Hector V. Barreto,
Administrator.

[FR Doc. 04-18699 Filed 8-13-04; 8:45 am]

BILLING CODE 8025-01-P